DEPARTMENT OF DEFENSE

Office of the Secretary

32 CFR Part 346

Department of Defense Education Activity (DoDEA)

AGENCY: Department of Defense.

ACTION: Final rule.

SUMMARY: This document removes 32 CFR Part 346, “DoD Education Activity”. This part has served the purpose for which it was intended and is no longer needed. A copy of DoD Directive 1342.20, “Department of Defense Education Activity (DoDEA),” is available at http://www.dtic.mil/whs/directives/.

EFFECTIVE DATE: This rule is effective November 28, 2005.

FOR FURTHER INFORMATION CONTACT: L.M. Bynum 703-696-4970.

List of Subjects in 32 CFR Part 346

Education, Military personnel, Organization and functions (Government agencies).

PART 346—[REMOVED]

For reasons set forth in the preamble, under the authority of 10 U.S.C. 131, 32 CFR Part 346 is removed.

Dated: December 2, 2005.
L.M. Bynum,
Alternate OSD Federal Register Liaison, Department of Defense.

[FR Doc. 05-23768 Filed 12-7-05; 8:45 am]

BILLING CODE 5001-06-M